COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

COMMENTS MUST BE RECEIVED ON OR BEFORE: January 5, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Fluid Element Filter, 2940-00-832-6054.

NPA: Gaston Skills, Inc., Gastonia, North Carolina.

Contract Activity: Defense Supply Center Columbus, Columbus, Ohio.

Product/NSN: Rochester Midland Envirocare Products, 7930-00-NIB-0253, Carpet & Upholstery Cleaner, 7930-00-NIB-0254, Food Service Cleaner, 7930-00-NIB-0255, Glass Cleaner, 7930-00-NIB-0256, Hand Soap, 7930-00-NIB-0257, LiquiBac, 7930-00-NIB-0258, Low Foam All Purpose Cleaner, 7930-00-NIB-0259, Neutral Disinfectant, 7930-00-NIB-0260, Tough Job, 7930-00-NIB-0261, Washroom & Fixture Cleaner.

NPA: Lighthouse for the Blind, St. Louis, Missouri.

Contract Activity: Office Supplies & Paper Products Acquisition Center, New York, New York.

Services

Service Type/Location: Administrative Services, National Park Service, Harpers Ferry Center, Harpers Ferry, West Virginia.

NPA: Hagerstown Goodwill Industries, Inc., Hagerstown, Maryland.

Contract Activity: National Park Service, Harpers Ferry, West Virginia.

Service Type/Location: Custodial Service, James M. Hanley Federal Building and U.S. Courthouse, Syracuse, New York.

NPA: Oswego Industries, Inc., Fulton, New York.

Contract Activity: GSA/PBS Upstate New York Service Center , Syracuse, New York.

Service Type/Location: Custodial Service, Walter Reed Army Medical Center, Main Section, Washington, DC, Forest Glen Section, Montgomery County, Maryland, Buildings 1, 5, 11, 52, 53, 92, 121, 154, 156, 163, 169, 178, 500, 501, 508, 511, 512, 601, 602, 604, 605.

NPA: Mt. Vernon-Lee Enterprises, Inc., Newington, Virginia,

Contract Activity: MEDCOM Contracting Center-NA, Washington, DC.

Service Type/Location: Facilities Maintenance, Mississippi ANG CRTC/LGC, Gulfport, Mississippi.

NPA: Mississippi Goodworks, Inc., Gulfport, Mississippi.

Contract Activity: ANG CRTC/LGC, Gulfport, Mississippi.

Service Type/Location: Janitorial/Custodial, National Park Service, C&O Canal National Historical Park Visitor Center, Cumberland, Maryland.

NPA: Hagerstown Goodwill Industries, Inc., Hagerstown, Maryland.

Contract Activity: National Park Service, C&O Canal NHP, Hagerstown, Maryland.

Sheryl D. Kennerly,
Director, Information Management.

[FR Doc. 02-30908 Filed 12-5-02; 8:45 am]

BILLING CODE 6353-01-P